DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons whose property and interest in property have been unblocked and who have been removed from OFAC's Specially Designated Nationals and Blocked Persons List (SDN List).

DATES: See SUPPLEMENTARY INFORMATION section for effective dates.

FOR FURTHER INFORMATION CONTACT: OFAC: Bradley T. Smith, Acting Director, tel.: 202-622-2480; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action

On April 21, 2021, OFAC determined that the property and interests in property subject to U.S. jurisdiction of the following persons are unblocked and they have been removed from the SDN List under the relevant sanctions authority listed below.

Entities

1. A.M. WAKED E HIJOS, S.A., Panama; RUC #26961-10-226532 (Panama) [SDNTK].

2. ADMINISTRACION MILLENIUM PLAZA, S.A., Panama; RUC #1050723-1-547544 (Panama) [SDNTK].

3. CORPORACION MARITIMA DE COLON, S.A., Panama; RUC #44053-63-293930 (Panama); alt. RUC #44503-63-293930 (Panama) [SDNTK].

4. FOOD COURT PLAZA MILENIO, S.A., Panama; RUC #1103474-1-560398 (Panama) [SDNTK].

5. FRANQUICIAS MULTIPLES S.A., Panama; RUC #1874692-1-717842 (Panama) [SDNTK].

6. HACIENDA PAULISTA, S.A., Panama; RUC #466985-1-433708 (Panama) [SDNTK].

7. HERMANOS WAKED, S.A., Panama; RUC #466694-1-433666 (Panama) [SDNTK].

8. HN Y N (HOT NEWS Y NEWS) PUBLICIDAD, S.A., Panama; RUC #715153-1-471751 (Panama) [SDNTK].

9. INVERSIONES DEL ATLANTICO, LTD., Panama; RUC #951371-1-526012 (Panama) [SDNTK].

10. INVERSIONES MP, S.A., Panama; RUC #1603791-1-666816 (Panama) [SDNTK].

11. LA GRAN BODEGA, S.A., Panama; RUC #580601-1-448114 (Panama) [SDNTK].

12. PANAMA BIG GAME FISHING, S.A., Panama; RUC #1538534-1-655100 (Panama) [SDNTK].

13. RESCATES MARINOS, S.A., Panama; RUC #1192450-1-580499 (Panama) [SDNTK].

14. TATUNG INTERNACIONAL, S.A., Panama; RUC #41534-72-284178 (Panama) [SDNTK].

15. URBANIZACION ALHAMBRA, S.A., Panama; RUC #998416-1-535687 (Panama) [SDNTK].

Dated: April 21, 2021.
Gregory T. Gatjanis,
Associate Director, Office of Global Targeting, Office of Foreign Assets Control, U.S. Department of the Treasury.

[FR Doc. 2021-08624 Filed 4-23-21; 8:45 am]

BILLING CODE 4810-AL-P